ENVIRONMENTAL PROTECTION AGENCY

40 CFR Part 52

[EPA-R05-OAR-2010-0998; FRL-9295-3]

Approval and Promulgation of Air Quality Implementation Plans; Indiana

AGENCY: Environmental Protection Agency (EPA).

ACTION: Direct final rule.

SUMMARY: EPA is approving a request submitted by the Indiana Department of Environmental Management on November 24, 2010, to revise the Indiana State Implementation Plan (SIP) under the Clean Air Act (CAA). These revisions address sulfur dioxide (SO2) and particulate matter (PM) limits for Cargill, Incorporated (Cargill) at its facility in Hammond (Lake County), Indiana. Indiana's SO2 revisions tighten emission limits for some existing units at Cargill's Hammond facility and remove the references to other emission units that are no longer in operation, in accordance with the terms of a September 2005 Federal consent decree. The PM revisions reflect the permanent shutdown of, and changes in unit identification for other Cargill units.

DATES: This direct final rule will be effective June 13, 2011, unless EPA receives adverse comments by May 16, 2011. If adverse comments are received, EPA will publish a timely withdrawal of the direct final rule in the Federal Register informing the public that the rule will not take effect.

ADDRESSES: Submit your comments, identified by Docket ID No. EPA-R05-OAR-2010-0998, by one of the following methods:

1. http://www.regulations.gov: Follow the on-line instructions for submitting comments.

2. E-mail: aburano.douglas@epa.gov.

3. Fax: (312) 408-2279.

4. Mail: Douglas Aburano, Chief, Control Strategies Section, Air Programs Branch (AR-18J), U.S. Environmental Protection Agency, 77 West Jackson Boulevard, Chicago, Illinois 60604.

5. Hand Delivery: Douglas Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-0998. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What is the background for this action?

II. What is EPA's analysis of the revision?

III. What are the environmental effects of this action?

IV. What action is EPA taking?

V. Statutory and Executive Order Reviews

I. What is the background for this action?

a. Sulfur Dioxide Emissions

Cargill entered into a Federal consent decree with EPA and a number of states, including Indiana, to resolve a complaint filed against the company in the United States District Court for the District of Minnesota. The consent decree was lodged on September 1, 2005. It covers 24 Cargill facilities in 13 states.

Paragraph 15 of the consent decree requires, among other things, that Cargill submit permit applications to applicable permitting authorities that will contain annual SO2 emission limits for the facilities and boilers listed in Appendix B of the decree. Appendix B lists four boilers at the Hammond facility—Numbers 6, 7, 8, and 10. It requires the retirement of Boiler Number 7, while removing the emission limits, recordkeeping requirements, and reporting requirements for the other three boilers. All four boilers have been permanently shutdown.

Paragraph 27 of the consent decree requires SO2 emission reductions at the Hammond facility to be achieved through the installation of pollution control technologies and the implementation of emission reduction projects to meet a level of control specified for the sources in Appendix L of the decree.

Indiana has revised SIP rule 326 Indiana Administrative Code (IAC) 7-4.1-5 to address these consent decree provisions.

b. Particulate Matter

Indiana revised Cargill's emission limits in 326 IAC 6.8-2-8 to remove the emission units that are no longer in operation at the Hammond facility. These revisions were not required by the consent decree, but were made to reflect the permanent shutdown of Cargill units—ten process sources and two natural gas-fired boilers. Those units now have no emission limits and, as such, they cannot be operated. In addition, Indiana has made changes in unit identification to reflect current operations.

II. What is EPA's analysis of the revision?

The revisions to the SO2 emission limits in 326 IAC 7-4.1-5 should result in improved air quality. There will no longer be emissions from the four boilers that Cargill has permanently shutdown, as referenced in Appendix B of the consent decree. In addition, there should be substantial SO2 emission reductions resulting from the eight units required to be controlled in Appendix L of the consent decree. The revisions to the PM emission rule, 326 IAC 6.8-2-8, help to clarify the PM requirements for Cargill.

EPA, therefore, finds these revisions to the SO2 and PM SIP rules acceptable.

III. What are the environmental effects of this action?

As a result of the SO2 emission reduction requirements in the consent decree, Cargill shutdown eight units and tightened emission limits on four other units. The total allowable SO2 emissions rate from all Cargill units is now 622 pounds per hour lower. The revisions have the potential to reduce SO2 emissions by 2730 tons per year.

Sulfur dioxide in the atmosphere can aggravate respiratory and cardiovascular disease. Sulfur dioxide emissions also contribute to acid rain and fine particulate matter formation.

Indiana also removed the PM emission limits for ten units that are permanently shutdown. The emission limit revisions do not cause a reduction in PM emissions as the units have already ceased operation, but they are indicative of the reduction in total allowable PM emissions that has occurred at the Cargill facility. The facility's cumulative allowable PM emissions are now 71 pounds per hour lower. That yields a potential annual reduction of 311 tons of PM emissions.

Particulate matter interferes with lung function when inhaled. Exposure to particulates can cause heart and lung disease. Particulate matter also aggravates asthma. Airborne particulate matter or PM is the main source of haze that causes a reduction in visibility.

IV. What action is EPA taking?

EPA is approving revisions to the Indiana SIP. This consists of revisions of the PM emission rule, 326 IAC 6.8-2-8, and the SO2 emission rule, 326 IAC 7-4.1-5.

We are publishing this action without prior proposal because we view this as a noncontroversial amendment and anticipate no adverse comments. However, in the proposed rules section of this Federal Register publication, we are publishing a separate document that will serve as the proposal to approve the state plan if relevant adverse written comments are filed. This rule will be effective June 13, 2011 without further notice unless we receive relevant adverse written comments by May 16, 2011. If we receive such comments, we will withdraw this action before the effective date by publishing a subsequent document that will withdraw the final action. All public comments received will then be addressed in a subsequent final rule based on the proposed action. The EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective June 13, 2011.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 13, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Particulate matter, Reporting and recordkeeping requirements, Sulfur oxides.

Dated: April 4, 2011.
Susan Hedman,
Regional Administrator, Region 5.

40 CFR part 52 is amended as follows:

PART 52—[AMENDED]

1. The authority citation for part 52 continues to read as follows:

Authority: 42 U.S.C. 7401 et seq.

Subpart P—Indiana

2. In § 52.770 the table in paragraph (c) is amended by revising the entries for “Article 6.8. Particulate Matter Limitations For Lake County” and “Article 7. Sulfur Dioxide Rules” to read as follows:

§ 52.770 Identification of plan.

* * * * *

(c) * * *

EPA-Approved Indiana Regulations
Indiana citation | Subject | Indiana effective date | EPA approval date | Notes
* * * * * * *
Article 6.8. Particulate Matter Limitations for Lake County
Rule 1. General Provisions
6.8-1-1 | Applicability | 2/22/2008 | 4/30/2008, 73 FR 23356.
6.8-1-1.5 | Definitions | 9/9/2005 | 3/22/2006, 71 FR 14383.
6.8-1-2 | Particulate emission limitations; fuel combustion steam generators, asphalt concrete plant, grain elevators, foundries, mineral aggregate operations; modification by commissioner | 9/9/2005 | 3/22/2006, 71 FR 14383.
6.8-1-3 | Compliance determination | 9/9/2005 | 3/22/2006, 71 FR 14383.
6.8-1-4 | Compliance schedules | 9/9/2005 | 3/22/2006, 71 FR 14383.
6.8-1-5 | Control strategies | 2/22/2008 | 4/30/2008, 73 FR 23356.
6.8-1-6 | State implementation plan revisions | 9/9/2005 | 3/22/2006, 71 FR 14383.
6.8-1-7 | Scope | 2/22/2008 | 4/30/2008, 73 FR 23356.
Rule 2. Lake County: PM10 Emission Requirements
6.8-2-1 | General provisions and definitions | 2/22/2008 | 4/30/2008, 73 FR 23356.
6.8-2-2 | Lake County: PM10 and total suspended particulates (TSP) emissions | 2/22/2008 | 4/30/2008, 73 FR 23356.
6.8-2-4 | ASF-Keystone, Inc.—Hammond | 2/22/2008 | 4/30/2008, 73 FR 23356.
6.8-2-6 | BP Products North America, Inc.—Whiting Refinery | 2/22/2008 | 4/30/2008, 73 FR 23356.
6.8-2-7 | Bucko Construction Company, Inc | 2/22/2008 | 4/30/2008, 73 FR 23356.
6.8-2-8 | Cargill, Inc | 11/19/2010 | 4/14/2011, [Insert page number where the document begins].
6.8-2-9 | W.R. Grace and Co.—Conn | 2/22/2008 | 4/30/2008, 73 FR 23356.
6.8-2-13 | Hammond Group, Inc. (HGI) Halox Division, Lead Products Division, and Hammond Expander Division | 2/22/2008 | 4/30/2008, 73 FR 23356.
6.8-2-14 | Hammond Group, Inc.—Halstab Division | 2/22/2008 | 4/30/2008, 73 FR 23356.
6.8-2-16 | Resco Products, Inc | 2/22/2008 | 4/30/2008, 73 FR 23356.
6.8-2-17 | Mittal Steel—Indiana Harbor East Inc | 2/22/2008 | 4/30/2008, 73 FR 23356.
6.8-2-18 | Jupiter Aluminum Corporation | 2/22/2008 | 4/30/2008, 73 FR 23356.
6.8-2-19 | Dover Chemical Corporation—Hammond | 2/22/2008 | 4/30/2008, 73 FR 23356.
6.8-2-20 | LaSalle Steel Company | 2/22/2008 | 4/30/2008, 73 FR 23356.
6.8-2-21 | Mittal Steel—Indiana Harbor West Inc | 2/22/2008 | 4/30/2008, 73 FR 23356.
6.8-2-22 | Carmeuse Lime Inc | 2/22/2008 | 4/30/2008, 73 FR 23356.
6.8-2-24 | Methodist Hospital Inc | 2/22/2008 | 4/30/2008, 73 FR 23356.
6.8-2-25 | National Recovery Systems | 2/22/2008 | 4/30/2008, 73 FR 23356.
6.8-2-26 | NIPSCo—Dean H. Mitchell Station | 2/22/2008 | 4/30/2008, 73 FR 23356.
6.8-2-27 | Praxair Inc | 2/22/2008 | 4/30/2008, 73 FR 23356.
6.8-2-28 | Premiere Candy Company | 2/22/2008 | 4/30/2008, 73 FR 23356.
6.8-2-29 | Reed Minerals—Plant #14 | 2/22/2008 | 4/30/2008, 73 FR 23356.
6.8-2-30 | Rhodia, Inc | 2/22/2008 | 4/30/2008, 73 FR 23356.
6.8-2-31 | Silgan Containers Manufacturing Corporation | 2/22/2008 | 4/30/2008, 73 FR 23356.
6.8-2-32 | Smith Ready Mix, Inc | 2/22/2008 | 4/30/2008, 73 FR 23356.
6.8-2-33 | State Line Energy, LLC | 2/22/2008 | 4/30/2008, 73 FR 23356.
6.8-2-34 | Huhtamaki Foodservice, Inc | 2/22/2008 | 4/30/2008, 73 FR 23356.
6.8-2-35 | Conopco, Inc. d/b/a Unilever HPC USA | 2/22/2008 | 4/30/2008, 73 FR 23356.
6.8-2-36 | Union Tank Car Company, Plant 1 | 2/22/2008 | 4/30/2008, 73 FR 23356.
6.8-2-37 | United States Gypsum Company | 2/22/2008 | 4/30/2008, 73 FR 23356.
6.8-2-38 | U.S. Steel—Gary Works | 2/22/2008 | 4/30/2008, 73 FR 23356.
Rule 4. Lake County: Opacity Limits; Test Methods
6.8-4-1 | Test methods | 2/22/2008 | 4/30/2008, 73 FR 23356.
Rule 8. Lake County: Continuous Compliance Plan
6.8-8-1 | Applicability | 2/22/2008 | 4/30/2008, 73 FR 23356.
6.8-8-2 | Documentation; operation and maintenance procedures | 9/9/2005 | 3/22/2006, 71 FR 14383.
6.8-8-3 | Plan requirements | 9/9/2005 | 3/22/2006, 71 FR 14383.
6.8-8-4 | Plan; schedule for complying with 326 IAC 6.8-7 | 9/9/2005 | 3/22/2006, 71 FR 14383.
6.8-8-5 | Plan; source categories | 9/9/2005 | 3/22/2006, 71 FR 14383.
6.8-8-6 | Plan; particulate matter control equipment; operation and maintenance | 9/9/2005 | 3/22/2006, 71 FR 14383.
6.8-8-7 | Plan; particulate matter control equipment; recording; operation; inspection | 9/9/2005 | 3/22/2006, 71 FR 14383.
6.8-8-8 | Plan; department review | 9/9/2005 | 3/22/2006, 71 FR 14383.
Rule 9. Lake County: PM10 Coke Battery Emission Requirements
6.8-9-1 | Applicability | 9/9/2005 | 3/22/2006, 71 FR 14383.
6.8-9-2 | Definitions | 9/9/2005 | 3/22/2006, 71 FR 14383.
6.8-9-3 | Emission limitations | 2/22/2008 | 4/30/2008, 73 FR 23356.
Rule 10. Lake County: Fugitive Particulate Matter
6.8-10-1 | Applicability | 2/22/2008 | 4/30/2008, 73 FR 23356.
6.8-10-2 | Definitions | 9/9/2005 | 3/22/2006, 71 FR 14383.
6.8-10-3 | Particulate matter emission limitations | 9/9/2005 | 3/22/2006, 71 FR 14383.
6.8-10-4 | Compliance requirements; control plans | 9/9/2005 | 3/22/2006, 71 FR 14383.
Rule 11. Lake County: Particulate Matter Contingency Measures
6.8-11-1 | Applicability | 9/9/2005 | 3/22/2006, 71 FR 14383.
6.8-11-2 | “Ambient monitoring data” defined | 9/9/2005 | 3/22/2006, 71 FR 14383.
6.8-11-3 | Exceedances | 9/9/2005 | 3/22/2006, 71 FR 14383.
6.8-11-4 | Violation of 24-hour standard | 9/9/2005 | 3/22/2006, 71 FR 14383.
6.8-11-5 | Violation of annual standard | 9/9/2005 | 3/22/2006, 71 FR 14383.
6.8-11-6 | Reduction measures | 9/9/2005 | 3/22/2006, 71 FR 14383.
Article 7. Sulfur Dioxide Rules
Rule 1.1. Sulfur Dioxide Emission Limitations
7-1.1-1 | Applicability | 6/24/2005 | 9/26/2005, 70 FR 56129.
7-1.1-2 | Sulfur dioxide emission limitations | 6/24/2005 | 9/26/2005, 70 FR 56129.
Rule 2. Compliance
7-2-1 | Reporting requirements; methods to determine compliance | 6/24/2005 | 9/26/2005, 70 FR 56129.
Rule 3. Ambient Monitoring
7-3-2 | Ambient monitoring |  | 5/13/1982, 47 FR 20583.
Rule 4. Emission Limitations and Requirements by County
7-4-2 | Marion County sulfur dioxide emission limitations | 3/11/1999 | 8/2/2000, 65 FR 47336.
7-4-3 | Vigo County sulfur dioxide emission limitations | 9/30/2004 | 2/28/2005, 70 FR 9533.
7-4-4 | Wayne County sulfur dioxide emission limitations | 4/10/1988 | 9/1/1988, 53 FR 33808.
7-4-5 | LaPorte County sulfur dioxide emission limitations | 4/10/1988 | 9/1/1988, 53 FR 33808.
7-4-6 | Jefferson County sulfur dioxide emission limitations | 4/10/1988 | 9/1/1988, 53 FR 33808.
7-4-7 | Sullivan County sulfur dioxide emission limitations | 4/10/1988 | 9/1/1988, 53 FR 33808.
7-4-8 | Vermillion County sulfur dioxide emission limitations | 4/10/1988 | 1/19/1989, 54 FR 2112.
7-4-9 | Floyd County sulfur dioxide emission limitations | 4/10/1988 | 9/1/1988, 53 FR 33808.
7-4-10 | Warrick County sulfur dioxide emission limitations | 8/30/2008 | 11/10/2009, 74 FR 57904.
7-4-11 | Morgan County sulfur dioxide emission limitations | 5/13/1988 | 12/16/1988, 53 FR 50521.
7-4-12.1 | Gibson County sulfur dioxide emission limitations | 12/5/1990 | 9/19/1994, 59 FR 47804.
7-4-13 | Dearborn County sulfur dioxide emission limitations | 3/16/2005 | 2/28/2006, 71 FR 9936.
7-4-14 | Porter County sulfur dioxide emission limitations | 10/23/1988 | 1/19/1989, 54 FR 2112.
Rule 4.1. Lake County Sulfur Dioxide Emission Limitations
7-4.1-1 | Lake County sulfur dioxide emission limitations | 6/24/2005 | 9/26/2005, 70 FR 56129.
7-4.1-2 | Sampling and analysis protocol | 6/24/2005 | 9/26/2005, 70 FR 56129.
7-4.1-3 | BP Products North America Inc. sulfur dioxide emission limitations | 6/24/2005 | 9/26/2005, 70 FR 56129.
7-4.1-4 | Bucko Construction sulfur dioxide emission limitations | 6/24/2005 | 9/26/2005, 70 FR 56129.
7-4.1-5 | Cargill, Inc. sulfur dioxide emission limitations | 11/19/2010 | 4/14/2011, [Insert page number where the document begins].
7-4.1-6 | Carmeuse Lime sulfur dioxide emission limitations | 6/24/2005 | 9/26/2005, 70 FR 56129.
7-4.1-7 | Cokenergy Inc. sulfur dioxide emission limitations | 6/24/2005 | 9/26/2005, 70 FR 56129.
7-4.1-8 | Indiana Harbor Coke Company sulfur dioxide emission limitations | 6/24/2005 | 9/26/2005, 70 FR 56129.
7-4.1-9 | Ironside Energy, LLC sulfur dioxide emission limitations | 6/24/2005 | 9/26/2005, 70 FR 56129.
7-4.1-10 | ISG Indiana Harbor Inc. sulfur dioxide emission limitations | 6/24/2005 | 9/26/2005, 70 FR 56129.
7-4.1-11 | Ispat Inland Inc. sulfur dioxide emission limitations | 6/24/2005 | 9/26/2005, 70 FR 56129.
7-4.1-12 | Methodist Hospital sulfur dioxide emission limitations | 6/24/2005 | 9/26/2005, 70 FR 56129.
7-4.1-13 | National Recovery Systems sulfur dioxide emission limitations | 6/24/2005 | 9/26/2005, 70 FR 56129.
7-4.1-14 | NIPSCO Dean H. Mitchell Generating Station sulfur dioxide emission limitations | 6/24/2005 | 9/26/2005, 70 FR 56129.
7-4.1-15 | Rhodia sulfur dioxide emission limitations | 6/24/2005 | 9/26/2005, 70 FR 56129.
7-4.1-16 | Safety-Kleen Oil Recovery Company sulfur dioxide emission limitations | 6/24/2005 | 9/26/2005, 70 FR 56129.
7-4.1-17 | SCA Tissue North America LLC sulfur dioxide emission limitations | 6/24/2005 | 9/26/2005, 70 FR 56129.
7-4.1-18 | State Line Energy, LLC sulfur dioxide emission limitations | 6/24/2005 | 9/26/2005, 70 FR 56129.
7-4.1-19 | Unilever HPC USA sulfur dioxide emission limitations | 6/24/2005 | 9/26/2005, 70 FR 56129.
7-4.1-20 | U.S. Steel—Gary Works sulfur dioxide emission limitations | 6/24/2005 | 9/26/2005, 70 FR 56129.
7-4.1-21 | Walsh and Kelly sulfur dioxide emission limitations | 6/24/2005 | 9/26/2005, 70 FR 56129.
* * * * * * *

* * * * *

[FR Doc. 2011-8867 Filed 4-13-11; 8:45 am]

BILLING CODE 6560-50-P